DEPARTMENT OF TRANSPORTATION

Surface Transportation Board

[STB Docket No. AB-290 (Sub-No. 249X)]

Norfolk Southern Railway Company—Discontinuance of Service Exemption—in McLean, Dewitt and Piatt Counties, IL

Norfolk Southern Railway Company (NSR) has filed a notice of exemption under 49 CFR 1152 Subpart F—Exempt Abandonments and Discontinuances of Service to discontinue service over a 30.4-mile line of railroad between milepost UM-47.9 at or near Mansfield and milepost UM-78.3 at or near Bloomington, in McLean, Dewitt and Piatt Counties, IL.¹ The line traverses United States Postal Service Zip Codes 61701, 61702, 61704, 61709, 61710, 61736, 61752, 61791, 61799, 61842, and 61854.

¹ By letter filed January 27, 2004, NSR clarified that it does not seek exemption from the requirements of 49 U.S.C. 10904 or 49 U.S.C. 10905. The notice of exemption covers only an exemption from the requirements of 49 U.S.C. 10903.

NSR has certified that: (1) No traffic has moved over the line for at least 2 years; (2) any overhead traffic can be rerouted over other lines; (3) no formal complaint filed by a user of rail service on the line (or by a state or local government entity acting on behalf of such user) regarding cessation of service over the line either is pending with the Board or with any U.S. District Court or has been decided in favor of complainant within the 2-year period; and (4) the requirements at 49 CFR 1105.12 (newspaper publication) and 49 CFR 1152.50(d)(1) (notice to governmental agencies) have been met.

As a condition to this exemption, any employee adversely affected by the abandonment shall be protected under Oregon Short Line R. Co.—Abandonment—Goshen, 360 I.C.C. 91 (1979). To address whether this condition adequately protects affected employees, a petition for partial revocation under 49 U.S.C. 10502(d) must be filed.

Provided no formal expression of intent to file an offer of financial assistance (OFA) has been received, this exemption will be effective on March 12, 2004, unless stayed pending reconsideration. Petitions to stay that do not involve environmental issues and formal expressions of intent to file an OFA for continued rail service under 49 CFR 1152.27(c)(2),² must be filed by February 23, 2004.³ Petitions to reopen must be filed by March 2, 2004, with the Surface Transportation Board, 1925 K Street, NW., Washington, DC 20423-0001.

² Each offer of financial assistance must be accompanied by the filing fee, which currently is set at $1,100. See 49 CFR 1002.2(f)(25).

³ Because this is a discontinuance proceeding and not an abandonment, trail use/rail banking and public use conditions are not appropriate. Likewise, no environmental or historical documentation is required here under 49 CFR 1105.6(c) and 1105.8(b), respectively.

A copy of any petition filed with the Board should be sent to NSR's representative: James R. Paschall, General Attorney, Norfolk Southern Corporation, Three Commercial Place, Norfolk, VA 23510.

If the verified notice contains false or misleading information, the exemption is void ab initio.

Board decisions and notices are available on our Web site at http://www.stb.dot.gov.

Decided: February 4, 2004.
By the Board, David M. Konschnik, Director, Office of Proceedings.
Vernon A. Williams,
Secretary.

[FR Doc. 04-2805 Filed 2-10-04; 8:45 am]

BILLING CODE 4915-00-P